INTERNATIONAL TRADE COMMISSION

[Investigation No. 337-TA-1378]

Certain Organic Light-Emitting Diode Display Modules and Components Thereof; Notice of Institution of Investigation

AGENCY: U.S. International Trade Commission.

ACTION: Notice.

SUMMARY: Notice is hereby given that a complaint was filed with the U.S. International Trade Commission on October 31, 2023, under section 337 of the Tariff Act of 1930, as amended, on behalf of Samsung Display Company, Ltd. of the Republic of Korea. Letters supplementing the complaint were filed on October 31, November 13, and November 14, 2023. The complaint, as supplemented, alleges violations of section 337 in the importation into the United States, or in the sale of certain organic light-emitting diode display modules and components thereof by reason of misappropriation of trade secrets, the threat or effect of which is to destroy or substantially injure a domestic industry or to prevent the establishment of an industry in the United States. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on November 30, 2023, ordered that—

(1) Pursuant to subsection (b) of section 337 of the Tariff Act of 1930, as amended, an investigation be instituted to determine whether there is a violation of subsection (a)(1)(A) of section 337 in the importation into the United States, or in the sale of certain products identified in paragraph (2) by reason of misappropriation of trade secrets, the threat or effect of which is to destroy or substantially injure a domestic industry or to prevent the establishment of an industry in the United States;

(2) Pursuant to section 210.10(b)(1) of the Commission's Rules of Practice and Procedure, 19 CFR 210.10(b)(1), the plain language description of the accused products or category of accused products, which defines the scope of the investigation, is “OLED display modules, OLED display panels, and components of OLED display modules or panels”;

(3) For the purpose of the investigation so instituted, the following are hereby named as parties upon which this notice of investigation shall be served:

(a) The complainant is:

Samsung Display Co., Ltd., #1, Samsung-ro, Giheung-gu, Yongin-si, Gyeonggi-do, 17113, Republic of Korea

(b) The respondents are the following entities alleged to be in violation of section 337, and are the parties upon which the complaint is to be served:

BOE Technology Group Co., Ltd., No. 12 Xihanzhong Road, BDA, Beijing, 100176, China

Mianyang BOE Optoelectronics Technology Co., Ltd., No. 198, Kefa RD, Mianyang, Sichuan, 621000, China

Ordos Yuansheng Optoelectronics Co., Ltd., No. 37 Science RD, Equipment Manufacturing Base, Dongsheng District, Ordos, Inner Mongolia Autonomous Region, 017020, China

Chengdu BOE Optoelectronics Technology Co., Ltd., No. 1188 Cooperation RD, Hi-tech Zone (west area), Chengdu, Sichuan, 611743, China

Chongqing BOE Optoelectronics Technology Co., Ltd., No. 7, Yunhan RD, Shuitu Hi-tech Industrial Zone, Chongqing, 400700, China

Wuhan BOE Optoelectronics Technology Co., Ltd., No. 691 Linkonggang RD, Dongxihu District, Wuhan, Hubei, 430040, China

BMOT f/k/a Kunming BOE Display Technology, No. 215, Building A2, No. 1 Yunshui RD, Da Ban Qiao subdistrict office of Yunnan Dianzhong New Area, 650211, China

BOE Technology America Inc., 2350 Mission College Blvd., Suite 600, Santa Clara, CA 95054

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 30, 2023.
Sharon Bellamy,
Supervisory and Hearings and Information Officer.

[FR Doc. 2023-26735 Filed 12-5-23; 8:45 am]

BILLING CODE 7020-02-P